DEPARTMENT OF COMMERCE

[I.D. 051004G]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Fisheries Certificate of Origin.

Form Number(s): NOAA Form 370.

OMB Approval Number: 0648-0335.

Type of Request: Regular submission.

Burden Hours: 1,033.

Number of Respondents: 350.

Average Hours Per Response: Processor response, 20 minutes; Captain's statement, 5 minutes.

Needs and Uses: Information required by International Dolphin Conservation Program Act (IDCPA) amendments to the Marine Mammal Protection Act (MMPA) is needed to document the dolphin safe status of tuna import shipments and domestic deliveries of tuna by U.S.-flag purse seine fishing vessels; verify that import shipments of fish were not harvested by large-scale, high seas driftnets; verify that tuna was not harvested by an embargoed nation or one that is otherwise prohibited from exporting tuna to the United States. The forms are submitted by importers, processors, and/or purse seine vessel operators.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number 202-395-7285, or David_Rostker@omb.eop.gov.

Dated: May 7, 2004.
Gwellnar Banks,
Management Analyst, Office of the Chief Information Officer.

[FR Doc. 04-10899 Filed 5-12-04; 8:45 am]

BILLING CODE 3510-22-S